DEPARTMENT OF AGRICULTURE

Animal and Plant Health Inspection Service

9 CFR Part 88

[Docket No. APHIS-2006-0168]

RIN 0579-AC49

Commercial Transportation of Equines to Slaughter

AGENCY: Animal and Plant Health Inspection Service, USDA.

ACTION: Proposed rule.

SUMMARY: We are proposing to amend the regulations regarding the commercial transportation of equines to slaughter to add a definition of equine for slaughter and make other changes that will extend the protections afforded by the regulations to equines bound for slaughter but delivered first to an assembly point, feedlot, or stockyard. This action would further ensure the humane treatment of such equines by helping to ensure that the unique and special needs of equines in commercial transportation to slaughter are met.

DATES: We will consider all comments that we receive on or before January 7, 2008.

ADDRESSES: You may submit comments by either of the following methods:

Federal eRulemaking Portal: Go to http://www.regulations.gov, select “Animal and Plant Health Inspection Service” from the agency drop-down menu, then click “Submit.” In the Docket ID column, select APHIS-2006-0168 to submit or view public comments and to view supporting and related materials available electronically. Information on using Regulations.gov, including instructions for accessing documents, submitting comments, and viewing the docket after the close of the comment period, is available through the site's “User Tips” link.

Postal Mail/Commercial Delivery: Please send four copies of your comment (an original and three copies) to Docket No. APHIS-2006-0168, Regulatory Analysis and Development, PPD, APHIS, Station 3A-03.8, 4700 River Road Unit 118, Riverdale, MD 20737-1238. Please state that your comment refers to Docket No. APHIS-2006-0168.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Timothy Cordes, Senior Staff Veterinarian, Equine Programs, National Center for Animal Health Programs, VS, APHIS, 4700 River Road Unit 46, Riverdale, MD 20737-1231; (301) 734-3279.

SUPPLEMENTARY INFORMATION:

Background

On December 7, 2001, we published in the Federal Register (66 FR 63588-63617, Docket No. 98-074-2) a final rule that established regulations concerning the commercial transportation of equines for slaughter. That rulemaking was initiated under the provisions of the Federal Agriculture Improvement and Reform Act of 1996 (the Act), in which Congress, recognizing that equines being transported to slaughter have unique and special needs, authorized the Secretary of Agriculture to issue guidelines for the regulation of the commercial transportation of equines for slaughter by persons regularly engaged in that activity in the United States (see 7 U.S.C. 1901 note).

The regulations in 9 CFR part 88 (the regulations) contain minimum standards to ensure the humane movement of equines for slaughter via commercial transportation. The regulations cover, among other things, the food, water, and rest provided to such equines prior to their transportation to slaughter, standards for conveyances used to transport equines to slaughter, and certain paperwork required to accompany equines during such transportation. The regulations also require the owner/shipper of the equines to take certain actions to ensure the safety and humane treatment of equines during loading and transportation for slaughter, including seeking immediate assistance from an equine veterinarian for any equine in obvious physical distress. In addition, the regulations prohibit the commercial transportation to slaughtering facilities of equines considered to be unfit for travel, the use of electric prods on equines in commercial transportation to slaughter, and, after December 7, 2006, the use of double-deck trailers for commercial transportation of equines to slaughtering facilities.

The Act defines “equine for slaughter” as “any member of the Equidae family being transferred to a slaughter facility, including an assembly point, feedlot, or stockyard.” The regulations in 9 CFR part 88 apply to equines moved in commercial transportation to slaughtering establishments but not to equines bound for slaughter but moved first to an assembly point, feedlot or stockyard. When the regulations were established in 2001, we believed that equines transported to slaughtering establishments were at high risk of being treated inhumanely, and that equines transported to assembly points, feedlots, or stockyards were likely to be treated well, either to bring more money at slaughter or to be sold for other purposes. Five years later, it appears that equines in commercial transportation to slaughtering facilities, specifically, are being treated humanely, in accordance with the regulations.

As the regulations are written, equines sold as slaughter horses may be transported first to an assembly point, for example, in a double-deck trailer and without any of the other protections afforded by the regulations, such as receiving adequate water and food prior to loading. We believe that equines may be delivered to these intermediate points en route to slaughter for the sole purpose of avoiding compliance with the regulations. In particular, since December 7, 2006, when the regulations no longer allowed double-deck trailers to transport equines to slaughtering facilities, truckers who wish to continue using double-deck trailers for slaughter horses have an incentive to transport them to assembly points, feedlots, or stockyards, where the horses could then be reloaded onto straight-deck trailers for the final leg of the trip to the slaughtering plant. We have received numerous reports of this situation occurring. Given these developments, it now appears that equines that are bound for slaughter but are delivered first to an assembly point, feedlot, or stockyard are at higher risk for inhumane treatment.

To close this loophole, we are proposing to amend the regulations to add a definition for the term equine for slaughter to read “any member of the Equidae family being transferred to a slaughter facility, including an assembly point, feedlot, or stockyard.” We also propose to amend § 88.2(b), § 88.3(a) introductory text, § 88.3(b), § 88.4(a) introductory text, and § 88.4(b)(4), (c), (d), and (e) by replacing the words “equines to a slaughtering facility”, “equines to slaughtering facilities”, “equines in commercial transportation to slaughtering facilities”, “equine to the slaughtering facility”, and “equines in commercial transportation to a slaughtering facility” with the term “equines for slaughter”. Lastly, we are proposing to amend § 88.4(b) introductory text by replacing the words “transit to the slaughtering facility” with the words “commercial transportation of equines for slaughter”.

We would consider equines delivered to an assembly point, feedlot, or stockyard to be equines for slaughter and subject to the regulations unless the owner/shipper presents an official certificate of veterinary inspection and the original copy of a negative equine infectious anemia test chart, or other documents that indicate the names and addresses of the consigner, consignee, owner, and examining veterinarian for any equine being shipped, as evidence that the equines are not equines for slaughter.

Executive Order 12866 and Regulatory Flexibility Act

This proposed rule has been reviewed under Executive Order 12866. The rule has been determined to be not significant for the purposes of Executive Order 12866 and, therefore, has not been reviewed by the Office of Management and Budget.

The Regulatory Flexibility Act (RFA) requires agencies to evaluate the potential effects of their rules on small entities. The analysis that follows represents an initial regulatory flexibility analysis in accordance with the requirements of the RFA. Because data on the commercial transport of equines to intermediate points en route to slaughter is sparse at best, we were not able to conduct a comprehensive analysis of the proposed rule's potential economic impact. Accordingly, we welcome public comment that would enable us to more fully assess the proposal's impact. We are particularly interested in public comment on the impact of the ban on double-deck trailers for use in transporting equines for slaughter.

APHIS's regulations in 9 CFR part 88 are designed to help ensure the humane commercial transport of equines to slaughter. Specifically, the regulations require that:

• For a period of not less than 6 consecutive hours immediately prior to the equines being loaded on the conveyance for transport, each equine be provided access to food and water and the opportunity to rest;

• Any equine that has been on the conveyance for 28 consecutive hours or more without food, water, and the opportunity to rest be offloaded and, for at least 6 consecutive hours, provided with food, water, and the opportunity to rest;

• Each equine be provided with enough space on the conveyance to ensure that no animal is crowded in a way likely to cause injury or discomfort;

• Stallions and other aggressive equines be segregated from each other and all other equines on the conveyance;

• Electric prods be used only in life-threatening situations; and

• An owner-shipper certificate be completed for each equine prior to departing for the slaughtering facility. Among other things, the certificate must certify the equine's fitness to travel and note any special care and handling needs during transit.¹

¹ An equine is considered fit to travel if it: (1) Can bear weight on all four limbs; (2) can walk unassisted; (3) is not blind in both eyes; (4) is older than 6 months of age; and (5) is not likely to give birth in transit. The owner or commercial shipper must sign the certificate, and it must accompany the equine to the slaughtering facility.

At present, the regulations apply only to equines moved directly to slaughtering establishments, and not to equines bound for slaughter but moved first to an assembly point, feedlot, or stockyard. This proposed rule would amend the regulations to make equines delivered to intermediate points en route to slaughter subject to the same regulations as those moved directly to slaughtering establishments. This proposed rule is intended to ensure the humane treatment of equines delivered to intermediate points en route to slaughter.

Equines are generally slaughtered for their meat, which is sold for human consumption, primarily outside the United States.² In 2005, the United States exported 39.5 million pounds of horse, ass, and mule meat, with a value of $61.1 million. Of the total volume exported in 2005, 35.3 million pounds, or 89 percent, was shipped to five countries (Belgium, France, Mexico, Russia, and Switzerland).³

² Horses account for almost all equines slaughtered in the United States.

³ Source: World Trade Atlas (U.S. Census Bureau).

From 2003 through 2005, an average of 70,094 equines were slaughtered annually in federally inspected U.S. slaughtering facilities.⁴ During that period, and at the time this analysis was prepared, there were three slaughtering facilities that accepted equines in the continental United States: Two were located in Texas and one in Illinois. However, following a Federal appeals court ruling, the two facilities in Texas are now closed. Following an unsuccessful challenge to a State law to stay open, the Illinois facility is also closed.

⁴ Source: USDA (NASS), Livestock Slaughter Summary (2003, 2004, 2005).

APHIS estimates that there are no more than 100 entities in the U.S. currently involved in the commercial transportation of equines to slaughter. As discussed below, the transport of slaughter equines to intermediate points is not uncommon. Based on the average number of equines slaughtered in the United States each year between 2003 and 2005 (approximately 70,000) and on the estimated number of potentially affected shippers (approximately 100), the average number of equines transported annually per shipper is 700.

Economic Effects on Owners and Commercial Shippers

The “path” from source supplier (farmer, rancher, pet owner, etc.) to slaughtering facility can vary. However, the most common scenario and the one used for the purpose of this analysis is as follows: The source suppliers transport their equines to local auction markets, where the equines are sold to persons who purchase the equines for the specific purposes of selling them to a slaughtering facility. (Hereafter, for the purposes of this initial regulatory flexibility analysis, we will refer to persons who sell equines for slaughter as “owners”; however, in some cases, the owners use agents to conduct some aspect of the business of purchasing equines and transporting and selling them to slaughtering facilities. We will use the term “owner” to refer to either the actual owners or their agents.) The owners consider price lists published by the slaughtering facilities for equines (the price varies in relation to the weight of the equine and the quality of the meat), transportation costs, and profit requirements to establish the maximum prices that they will pay for equines at local auctions. Because the owners cannot usually purchase enough slaughter-quality equines at any one auction to make it economically feasible to ship the animals directly from the auction site to the slaughtering facility, the owners transport the equines back to their own farms or feedlots where the equines are kept until such time as the owners can accumulate more equines from other auctions. When enough equines have been accumulated to comprise a shipment, the owners transport the equines to the slaughtering facility. In an estimated 75 percent of cases, owners hire commercial shippers to move the equines to the slaughtering facilities; in the remaining estimated 25 percent of cases, owners transport the equines to slaughter in their own conveyances.

Based on the slaughter scenario described above, this proposed rule has the potential to economically affect owners who purchase equines at local auction markets and then transport the animals to their farms, feedlots, or other assembly points prior to shipping them on to slaughter. (The owners' farms and feedlots are intermediate stops en route to slaughter.) However, the proposed rule also has the potential to affect owners and commercial shippers who transport equines from the owners' farms or feedlots to assembly points, feedlots, and stockyards prior to the animals' final delivery to a slaughtering facility. We are aware that such transport to intermediate points between the owner's farms or feedlots and the slaughtering facility occurs but we do not know the extent of that transport. However, we have no reason to believe it is significant.

The proposed rule is likely to have little or no impact on most owners who transport equines from local auction markets to their farms or feedlots. There are several reasons. First, equines sold for slaughter at auctions usually have access to food, water, and rest for at least 6 hours prior to being transported to the owners' farms and feedlots. Sellers at auction markets have an incentive to provide equines with food and water because malnourished equines have a reduced slaughter value. Furthermore, most slaughter equines tend to be in their pens at auction markets for at least 6 hours, since it usually takes at least that long for them to be sold. Indeed, it is not uncommon for slaughter horses to be sold at the end of an auction session, after the saddle horses are sold. The requirement that equines have access to food, water, and rest for at least 6 consecutive hours immediately prior to the animals being loaded on the conveyance should not be a problem for owners who transport equines from auction sites.

Second, owners typically purchase equines at auction markets that are in relatively close proximity to their farms and feedlots. It is unlikely, therefore, that equines acquired at auctions will have to be offloaded for feeding, rest, etc., while en route to the owners' farms or feedlots, since it is unlikely that the trip will take longer than 28 hours.

Third, the proposed rule would require that, during transport to intermediate points, equines be provided with enough space to ensure that they are not crowded in a way that is likely to cause injury or discomfort. The proposed rule would specifically ban the use of double-deck trailers for such transport, as those types of conveyances are a source of animal injury and discomfort. However, owners who transport equines from local auction markets to their farms or feedlots generally do not do so using double-deck trailers. The transport to owner farms and feedlots almost always occurs in smaller capacity conveyances, such as straight-deck and goose-neck trailers.⁵ That owners transport the animals back to their own farms or feedlots (rather than to slaughtering facilities directly) only because they cannot purchase enough slaughter-quality equines at any one auction is, in itself, an indication that they have no need for the higher capacity double-deck trailers for such transport. Although overcrowding can also occur in single-deck (also called straight-deck) trailers, there is no evidence to suggest that it is an issue for owners who pick up slaughter equines at auction markets.

⁵ Double-deck livestock trailers can carry up to about 45 equines each; single-deck trailers can carry up to about 38 equines each. Prior to the ban that became effective December 8, 2006, double-deck trailers were most often used for transporting equines to slaughter facilities.

Fourth, the restriction on the use of electric prods should not pose a burden because effective, low-cost substitutes are available for use in non-life-threatening situations. For example, fiberglass poles with flags attached, which cost no more than about $10 each, are considered to be an effective alternative to electric prods. (Any current use of electric prods by transporters of slaughter equines probably derives from the traditional use of these devices to assist in moving other livestock, such as cattle and swine.)

Finally, available data suggest that the segregation of stallions and other aggressive equines is already a common transport practice. Owners have an incentive to make sure that aggressive equines are segregated because equines that arrive at the slaughtering facilities injured as the result of biting and kicking en route command lower market values. Furthermore, relatively few stallions are transported for slaughter. USDA personnel stationed at two of the slaughtering facilities have estimated that no more than about 5 percent of equines arriving for slaughter are stallions. Accordingly, the requirement that stallions and other aggressive equines be segregated during transport to slaughter is not likely to have a significant economic effect on owners who pick up equines at various auction markets.

As indicated above, the proposed rule also has the potential to affect owners and commercial shippers who transport equines from the owner's farms or feedlots to assembly points, feedlots, and stockyards prior to the animals' final delivery to a slaughtering facility. These entities are more likely to be affected by the proposed rule than owners who transport equines from auction markets to their farms and feedlots only, because they are more likely to be using double-deck trailers. (This is because equines are typically moved from owners' farms and feedlots only when enough equines have been accumulated to comprise a full shipment, a situation which is likely to foster use of the higher-capacity double-deck trailers.) Nonetheless, we believe that owners and commercial shippers who transport equines from owners' farms or feedlots to intermediate points prior to the animals' final delivery to a slaughtering facility are likely to be in compliance with most parts of the proposed rule.

Nor should the “28-hour” rule pose a problem for the vast majority of owners and commercial shippers who transport equines from owners' farms or feedlots to intermediate points prior to the animals' final shipment to a slaughtering facility. Even in a worst-case scenario in terms of travel distance (i.e., equines transported from farms or feedlots on the east or west coasts to border crossing points in closest proximity to the slaughtering facilities in Mexico, which are all located in the central part of the United States), the overwhelming majority of trips should take less than 28 hours. Assuming an average highway speed of 55 mph and two different drivers, and allowing 1.5 hours for loading and 2 hours for refueling and meal stops, even a trip as long as 1,300 miles would take only about 27 hours.⁶

⁶ It is common transport practice to use two different drivers on long trips. This practice allows the equines to be transported virtually nonstop because one person can drive while the other rests, thereby avoiding federally mandated rest periods that apply in a single-driver situation.

Double-deck trailers can carry more equines than single-deck trailers, and owners and shippers who are using the former will be affected by the reduction in the number of equines that could be transported in a single conveyance. However, for affected owners and commercial shippers, the ban on double-deck trailers is likely to be mitigated by several factors. First, commercial shippers can use their double-deck trailers to transport other livestock and produce. In this regard, it has been estimated that double-deck trailers in general carry equines no more than about 10 percent of the time they are in use. Second, owners who cannot find another use for the double-deck trailers can trade them for single-deck trailers. Owners should be able to sell their serviceable trailers at fair market value to transporters of commodities other than equines.

In conclusion, we believe that most transporters to intermediate points are already in compliance with most or all of the proposed rule's requirements. Those that are not now in compliance are likely to be owners and commercial shippers who transport equines from owners' farms or feedlots to intermediate points prior to the animals' final delivery to a slaughtering facility, since their load volume fosters the use of the higher capacity double-deck trailers. While we know that transport to intermediate points between the owners' farms or feedlots and the slaughtering facility occurs, we do not believe it is at a level that this proposed rule would result in any significant economic impacts.

Impact on Horse Slaughtering Facilities

The proposed rule also has the potential to economically affect the horse slaughtering facilities, to the extent that it could negatively affect the supply of slaughter horses. As indicated above, there are currently no horse slaughtering facilities operating in the United States, however, the possibility exists that such facilities could open in the future. As a result of the ban on double-deck trailers, for example, fewer transporters may be willing to haul slaughter horses, and those that are willing will have to do it in smaller capacity single-deck trailers. A decline in supply has implications for the slaughtering facility since it may lead to an increase in the price they pay to acquire horses. Nevertheless, as indicated above, we believe that most transporters to intermediate points are already in compliance with most or all of the proposed rule's requirements, including the prohibition on double-deck trailers.

Impact on Small Entities

As indicated above, it is estimated that no more than about 100 entities are potentially affected by the proposed rule, most of whom are equine owners and commercial shippers. Although we do not have specific information on the annual receipts of these entities, it is reasonable to assume that most are small by U.S. Small Business Administration (SBA) standards. This assumption is based on composite data for providers of the same and similar services in the United States. In 2002, the most recent year for which data is available, there were 44,933 U.S. establishments in North American Industry Classification System (NAICS) categories 48422 and 48423, which comprise firms primarily engaged in specialized freight trucking, including the transportation of livestock. The per-establishment average gross receipts for all 44,933 establishments that year was $0.9 million, well below the SBA's small-entity threshold of $23.5 million. Similarly, in 2002, there were 1,048 U.S. establishments in NAICS 42459, a classification category that includes horse dealers. For all 1,048 establishments, the per-establishment average number of employees that year was 7, well below the SBA's small-entity threshold of 100 employees for those firms.⁷

⁷ Source: SBA and U.S. Census Bureau (2002 Economic Census).

APHIS has not identified any duplication, overlap, or conflict of this proposed rule with other Federal rules.

Alternatives

In developing the current regulations, APHIS opted for a number of alternatives designed to lessen the economic effects of the regulations on affected small entities, including a deferral, for 5 years, of the effective date for the prohibition on double-deck trailers.⁸ The ban on double-deck trailers under the current regulations took effect December 8, 2006, which means that owner-shippers that currently use double-deck trailers to transport equines to intermediate points would face a ban on the use of those trailers under the proposed rule.

⁸ The final rule published in 2001 noted that a 5-year deferral allows slaughter facilities time to respond to the expected decline in the number of transporters willing to haul horses to slaughter, including time to budget and to arrange for financing of equipment they may need to acquire if they must haul horses on their own because commercial shippers and owners will not.

Public comment on the proposed rule's economic impact is invited, especially comment on any impact for small entities stemming from prohibition on the use of double-deck trailers to move equines to intermediate points, such as stockyards and feedlots, before moving them to a slaughter facility.

Executive Order 12372

This program/activity is listed in the Catalog of Federal Domestic Assistance under No. 10.025 and is subject to Executive Order 12372, which requires intergovernmental consultation with State and local officials. (See 7 CFR part 3015, subpart V.)

Executive Order 12988

This proposed rule has been reviewed under Executive Order 12988, Civil Justice Reform. If this proposed rule is adopted: (1) All State and local laws and regulations that are in conflict with this rule will be preempted; (2) no retroactive effect will be given to this rule; and (3) administrative proceedings will not be required before parties may file suit in court challenging this rule.

Paperwork Reduction Act

In accordance with section 3507(j) of the Paperwork Reduction Act of 1995 (44 U.S.C. 3501 et seq.), the information collection and recordkeeping requirements included in this proposed rule have been submitted for approval to the Office of Management and Budget (OMB). Please send written comments to the Office of Information and Regulatory Affairs, OMB, Attention: Desk Officer for APHIS, Washington, DC 20503. Please state that your comments refer to Docket No. APHIS-2006-0168. Please send a copy of your comments to: (1) Docket No. APHIS-2006-0168, Regulatory Analysis and Development, PPD, APHIS, Station 3A-03.8, 4700 River Road Unit 118, Riverdale, MD 20737-1238, and (2) Clearance Officer, OCIO, USDA, room 404-W, 14th Street and Independence Avenue, SW., Washington, DC 20250. A comment to OMB is best assured of having its full effect if OMB receives it within 30 days of publication of this proposed rule.

This proposed rule would amend the regulations in 9 CFR part 88 to provide for the humane treatment of equines en route to slaughter facilities through intermediate points. We are soliciting comments from the public (as well as affected agencies) concerning our information collection and recordkeeping requirements. These comments will help us:

(1) Evaluate whether the information collection is necessary for the proper performance of our agency's functions, including whether the information will have practical utility;

(2) Evaluate the accuracy of our estimate of the burden of the information collection, including the validity of the methodology and assumptions used;

(3) Enhance the quality, utility, and clarity of the information to be collected; and

(4) Minimize the burden of the information collection on those who are to respond (such as through the use of appropriate automated, electronic, mechanical, or other technological collection techniques or other forms of information technology; e.g., permitting electronic submission of responses).

Estimate of burden: Public reporting burden for this collection of information is estimated to average 0.834960937 hours per response.

Respondents: Owners and shippers of slaughter horses and drivers of vehicles of equines for slaughter.

Estimated annual number of respondents: 130.

Estimated annual number of responses per respondent: 39.38461538.

Estimated annual number of responses: 5,120.

Estimated total annual burden on respondents: 4,275 hours. (Due to averaging, the total annual burden hours may not equal the product of the annual number of responses multiplied by the reporting burden per response.)

Copies of this information collection can be obtained from Mrs. Celeste Sickles, APHIS' Information Collection Coordinator, at (301) 734-7477.

E-Government Act Compliance

The Animal and Plant Health Inspection Service is committed to compliance with the E-Government Act to promote the use of the Internet and other information technologies, to provide increased opportunities for citizen access to Government information and services, and for other purposes. For information pertinent to E-Government Act compliance related to this proposed rule, please contact Mrs. Celeste Sickles, APHIS' Information Collection Coordinator, at (301) 734-7477.

List of Subjects in 9 CFR Part 88

Animal welfare, Horses, Reporting and recordkeeping requirements, Transportation.

Accordingly, we are proposing to amend 9 CFR part 88 as follows:

PART 88—COMMERCIAL TRANSPORTATION OF EQUINES FOR SLAUGHTER

1. The authority citation for part 88 continues to read as follows:

Authority: 7 U.S.C. 1901, 7 CFR 2.22, 2.80, 371.4.

2. Section 88.1 is amended by adding, in alphabetical order, a new definition for equine for slaughter to read as follows:

§ 88.1 Definitions.

* * * * *

Equine for slaughter. Any member of the Equidae family being transferred to a slaughter facility, including an assembly point, feedlot, or stockyard.

* * * * *

§ 88.2 [Amended]

3. In § 88.2, paragraph (b) is amended by removing the words “equines to a slaughtering facility” and adding the words “equines for slaughter” in their place.

§ 88.3 [Amended]

4. Section 88.3 is amended as follows:

a. In paragraph (a), introductory text, by removing the words “equines to slaughtering facilities” and adding the words “equines for slaughter” in their place.

b. In paragraph (b), by removing the words “Equines in commercial transportation to slaughtering facilities” and adding the words “Equines for slaughter” in their place.

§ 88.4 [Amended]

5. Section 88.4 is amended as follows:

a. In paragraph (a), introductory text, by removing the words “equines to a slaughtering facility” and adding the words “equines for slaughter” in their place.

b. In paragraph (a)(3), by removing the words “transit to the slaughtering facility” and adding the words “throughout transit to slaughter” in their place.

c. In paragraph (b), introductory text, by removing the words “transit to the slaughtering facility” and adding the words “commercial transportation of equines for slaughter” in their place.

d. In paragraph (b)(4), by removing the words “equine to the slaughtering facility” and adding the words “equines for slaughter” in their place.

e. In paragraph (c), by removing the words “equines in commercial transportation to a slaughtering facility” both times they occur and adding the words “equines for slaughter” in their place.

f. In paragraphs (d) and (e), by removing the words “equines to a slaughtering facility” and adding the words “equines for slaughter” in their place.

Done in Washington, DC, this 1st day of November 2007.
Kevin Shea,
Acting Administrator, Animal and Plant Health Inspection Service.

[FR Doc. E7-21896 Filed 11-6-07; 8:45 am]

BILLING CODE 3410-34-P